FEDERAL RESERVE SYSTEM

Consumer Advisory Council; Solicitation of Nominations for Membership

AGENCY: Board of Governors of the Federal Reserve System.

ACTION: Notice.

SUMMARY: The Board is inviting the public to nominate qualified individuals for appointment to its Consumer Advisory Council, whose membership represents interests of consumers, communities, and the financial services industry. New members will be selected for three-year terms that will begin in January 2009. The Board expects to announce the selection of new members in early January.

DATES: Nominations must be received by August 29, 2008.

NOMINATIONS NOT RECEIVED BY AUGUST 29 MAY NOT BE CONSIDERED.

ADDRESSES: Nominations must include a résumé for each nominee. Electronic nominations are preferred. The appropriate form can be accessed at: https://www.federalreserve.gov/secure/forms/cacnominationform.cfm.

If electronic submission is not feasible, the nominations can be mailed (not sent by facsimile) to Sheila Maith, Advisor, Division of Consumer and Community Affairs, Board of Governors of the Federal Reserve System, Washington, DC 20551.

FOR FURTHER INFORMATION CONTACT: Jennifer Kerslake, Secretary of the Council, Division of Consumer and Community Affairs, (202) 452-6470, Board of Governors of the Federal Reserve System, Washington, DC 20551.

SUPPLEMENTARY INFORMATION: The Consumer Advisory Council was established in 1976 at the direction of the Congress to advise the Federal Reserve Board on the exercise of its duties under the Consumer Credit Protection Act and on other consumer-related matters. The Council by law represents the interests both of consumers and of the financial services industry (15 U.S.C. 1691(b)). Under the Rules of Organization and Procedure of the Consumer Advisory Council (12 CFR 267.3), members serve three-year terms that are staggered to provide the Council with continuity.

New members will be selected for terms beginning January 1, 2009, to replace members whose terms expire in December 2008. The Board expects to announce its appointment of new members in early January. Nomination letters should include:

• A résumé;

• Information about past and present positions held by the nominee, dates, and description of responsibilities;

• A description of special knowledge, interests, or experience related to community reinvestment, consumer protection regulations, consumer credit, or other consumer financial services;

• Full name, title, organization name, organization description for both the nominee and the nominator;

• Current address, email address, telephone and fax numbers for both the nominee and the nominator; and

• Positions held in community organizations, and on councils and boards.

Individuals may nominate themselves.

The Board is interested in candidates who have familiarity with consumer financial services, community reinvestment, and consumer protection regulations, and who are willing to express their views. Candidates do not have to be experts on all levels of consumer financial services or community reinvestment, but they should possess some basic knowledge of the area. They must be able and willing to make the necessary time commitment to participate in conference calls, and prepare for and attend meetings three times a year (usually for two days, including committee meetings). The meetings are held at the Board's offices in Washington, DC. The Board pays travel expenses, lodging, and a nominal honorarium.

In making the appointments, the Board will seek to complement the background of continuing Council members in terms of affiliation and geographic representation, and to ensure the representation of women and minority groups. The Board may consider prior years' nominees and does not limit consideration to individuals nominated by the public when making its selection.

Council members whose terms end as of December 31, 2008, are:

Dorothy Bridges, Chief Executive Officer and President, Franklin National Bank of Minneapolis, Minneapolis, Minnesota

Tony T. Brown, President and Chief Executive Officer, Uptown Consortium, Inc., Cincinnati, Ohio

Sarah Ludwig, Executive Director, Neighborhood Economic Development, Advocacy Project, New York, New York

Mark K. Metz, Senior Vice President and Deputy General Counsel, Wachovia Corporation, Charlotte, North Carolina

Lance Morgan, President, Ho-Chunk, Incorporated, Winnebago Tribe of Nebraska, Winnebago, Nebraska

Joshua Peirez, Chief Payment System Integrity Officer, MasterCard Worldwide, Purchase, New York

Anna McDonald Rentschler, Vice President & BSA Officer, Central Bancompany, Jefferson City, Missouri

Faith Arnold Schwartz, Executive Director, HOPE NOW Alliance, Washington, District of Columbia

Edward Sivak, Director of Policy and Evaluation, Enterprise Corporation of the Delta, Jackson, Mississippi

Alan White, Assistant Professor, Valparaiso University Law School, Valparaiso, Indiana

Council members whose terms continue through 2009 and 2010 are:

Michael Calhoun, President, Center for Responsible Lending, Durham, North Carolina

Alan Cameron, President and Chief Executive Officer, Idaho Credit Union League, Boise, Idaho

Jason Engel, Vice President & Chief Regulatory Counsel, Experian, Costa Mesa, California

Kathleen Engel, Associate Professor of Law, Cleveland-Marshall College of Law, Cleveland, Ohio

Joseph L. Falk, Consultant, Akerman Senterfitt, Miami, Florida

Louise J. Gissendaner, Senior Vice President, Director of Community Development, Fifth Third Bank, Cleveland, Ohio

Greta Harris, Vice President—Southeast Region, Local Initiatives Support Corporation, Richmond, Virginia

Patricia A. Hasson, President, Consumer Credit Counseling Service of Delaware Valley, Inc., Philadelphia, Pennsylvania

Thomas P. James, Senior Assistant Attorney General, Consumer Counsel, Office of the Illinois Attorney General, Consumer Fraud Bureau, Chicago, Illinois

Lorenzo Littles, Dallas Director, Enterprise Community Partners, Inc., Dallas, Texas

Saurabh Narain, Chief Fund Advisor, National Community Investment Fund, Chicago, Illinois

Ronald Phillips, President, Coastal Enterprises, Inc., Wiscasset, Maine

Kevin Rhein, Division President, Wells Fargo Card Services, Minneapolis, Minnesota

Edna Sawady, Managing Director, Market Innovations, Inc., Cleveland, Ohio

Shanna Smith, President and CEO, National Fair Housing Alliance, Washington, District of Columbia

H. Cooke Sunoo, Director, Asian Pacific Islander Small Business Program, Los Angeles, California

Jennifer Tescher, Director, Center for Financial Services Innovation, Chicago, Illinois

Stergios “Terry” Theologides, Executive Vice President, General Counsel, Morgan Stanley Home Loans, Fort Worth, Texas

Linda Tinney,Vice President, Community Development, West Metro Region Manager, U.S. Bank, Denver, Colorado

Luz L. Urrutia, Chief Executive Officer/President, El Banco de Nuestra Comunidad, Roswell, Georgia

Board of Governors of the Federal Reserve System, June 16, 2008.
Jennifer J. Johnson,
Secretary of the Board.

[FR Doc. E8-13929 Filed 6-19-08; 8:45 am]

BILLING CODE 6210-01-P